DEPARTMENT OF STATE

[Public Notice: 7089]

Culturally Significant Objects Imported for Exhibition Determinations: “The World of Khubilai Khan: Chinese Art in the Yuan Dynasty”

ACTION: Notice, correction.

SUMMARY: On April 15, 2010, notice was published on pages 19668-19669 of the Federal Register (volume 75, number 72) of determination made by the Department of State pertaining to the exhibit “From Xanadu to Dadu: The World of Khubilai Khan.” The reference notice is corrected to accommodate additional objects to be included in the exhibition, and the exhibit name is now titled, “The World of Khubilai Khan: Chinese Art in the Yuan Dynasty.” Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the additional objects to be included in the exhibition “The World of Khubilai Khan: Chinese Art in the Yuan Dynasty,” imported from abroad for temporary exhibition within the United States, are of cultural significance. The additional objects are imported pursuant to loan agreements with the foreign owners or custodians. I also determine that the exhibition or display of the additional exhibit objects at The Metropolitan Museum of Art, New York, NY, from on or about September 28, 2010, until on or about January 2, 2011, and at possible additional exhibitions or venues yet to be determined, is in the national interest. I have ordered that Public Notice of these Determinations be published in the Federal Register.

FOR FURTHER INFORMATION CONTACT: For further information, including a list of the exhibit objects, contact Julie Simpson, Attorney-Adviser, Office of the Legal Adviser, U.S. Department of State (telephone: 202-632-6467). The mailing address is U.S. Department of State, SA-5, L/PD, Fifth Floor (Suite 5H03), Washington, DC 20522-0505.

Dated: July 9, 2010.
Ann Stock,
Assistant Secretary for Educational and Cultural Affairs, Bureau of Educational and Cultural Affairs, Department of State.

[FR Doc. 2010-17308 Filed 7-14-10; 8:45 am]

BILLING CODE 4710-05-P